DEPARTMENT OF ENERGY

Federal Energy Regulatory Commission

[Docket No. ER02-2001-007, et al.]

Electric Quarterly Reports, etc.; Notice of Revocation of Market-Based Rate Tariffs

May 23, 2008.

In the matter of: Electric Quarterly Reports, Docket No. ER02-2001-007; Dunhill Power, L.P., Docket No. ER07-430-000; Exel Power Sources, LLC, Docket No. ER07-591-000.

On April 30, 2008, the Commission issued an order announcing its intent to withdraw the market-based rate authority of two public utilities that had failed to file their required Electric Quarterly Reports.¹ The Commission gave the utilities fifteen days in which to file their overdue Electric Quarterly Reports or face revocation of their market-based rate tariffs.

¹ Electric Quarterly Reports, 123 FERC ¶ 61,102 (2008) (April 30 Order).

In Order No. 2001, the Commission revised its public utility filing requirements and established a requirement for public utilities, including power marketers, to file Electric Quarterly Reports summarizing the contractual terms and conditions in their agreements for all jurisdictional services (including market-based power sales, cost-based power sales, and transmission service) and providing transaction information (including rates) for short-term and long-term power sales during the most recent calendar quarter. ²

² Revised Public Utility Filing Requirements, Order No. 2001, 67 Fed. Reg. 31043, FERC Stats. & Regs. ¶ 31,127 (April 25, 2002), reh'g denied, Order No. 2001-A, 100 FERC ¶ 61,074, reconsideration and clarification denied, Order No. 2001-B, 100 FERC ¶ 61,342, order directing filings, Order No. 2001-C, 101 FERC ¶ 61,314 (2002).

In the April 30 Order, the Commission directed the public utilities it had identified to file the required reports within 15 days of the date of issuance of the order or face revocation of their authority to sell power at market-based rates and termination of their electric market-based rate tariffs.³

³ 3 April 30 Order at Ordering Paragraph A.

The time period for compliance with the April 30 Order has elapsed. The two companies identified in the April 30 Order (Dunhill Power, L.P. and Exel Power Sources, LLC) have failed to file their delinquent Electric Quarterly Reports.

The Commission hereby withdraws the market-based rate authority and terminates the electric market-based rate tariff for each of the 90 companies captioned above in this Notice.

Kimberly D. Bose,
Secretary.

[FR Doc. E8-12209 Filed 5-30-08; 8:45 am]

BILLING CODE 6717-01-P